DEPARTMENT OF ENERGY

Federal Energy Regulatory Commission

Combined Notice of Filings #1

Take notice that the Commission received the following electric corporate filings:

Docket Numbers: EC11-113-000.

Applicants: Entergy Mississippi, Inc., Entergy Arkansas, Inc., KGEN Hinds LLC, KGen Hot Spring LLC.

Description: Entergy Mississippi, Inc et al submits a Joint Application for Order Authorizing Acquisition and Disposition of Jurisdictional Assets under Section 203 of the Federal Power Act.

Filed Date: 08/31/2011.

Accession Number: 20110901-0201.

Comment Date: 5 p.m. Eastern Time on Wednesday, September 21, 2011.

Take notice that the Commission received the following electric rate filings:

Docket Numbers: ER11-3735-000.

Applicants: Puget Sound Energy, Inc.

Description: Puget Sound Energy, Inc. Response to Deficiency Letter.

Filed Date: 08/25/2011.

Accession Number: 20110825-5125.

Comment Date: 5 p.m. Eastern Time on Thursday, September 15, 2011.

Docket Numbers: ER11-4266-001.

Applicants: Richland-Stryker Generation LLC.

Description: Richland-Stryker Generation LLC submits tariff filing per 35.17(b): Amended Richland-Stryker MBR to be effective 9/26/2011.

Filed Date: 09/02/2011.

Accession Number: 20110902-5118.

Comment Date: 5 p.m. Eastern Time on Friday, September 23, 2011.

Docket Numbers: ER11-4434-000.

Applicants: Ally Energy, LLC.

Description: Ally Energy, LLC submits tariff filing per 35.15: Cancellation of MBR Tarriff to be effective 9/3/2011.

Filed Date: 09/02/2011.

Accession Number: 20110902-5116.

Comment Date: 5 p.m. Eastern Time on Friday, September 23, 2011.

Docket Numbers: ER11-4435-000.

Applicants: Black Hills Power, Inc.

Description: Black Hills Power, Inc. submits tariff filing per 35.15: Cancellation (Complete Tariff ID) to be effective 9/2/2011.

Filed Date: 09/02/2011.

Accession Number: 20110902-5131.

Comment Date: 5 p.m. Eastern Time on Friday, September 23, 2011.

Docket Numbers: ER11-4436-000.

Applicants: Black Hills Power, Inc.

Description: Black Hills Power, Inc. submits tariff filing per 35.1: MBR Tariff Baseline to be effective 8/1/2010.

Filed Date: 09/02/2011.

Accession Number: 20110902-5135.

Comment Date: 5 p.m. Eastern Time on Friday, September 23, 2011.

Docket Numbers: ER11-4437-000.

Applicants: Arizona Public Service Company.

Description: Arizona Public Service Company submits tariff filing per 35.13(a)(2)(iii: LGIP reforms developed through WestConnect stakeholder process to be effective 11/1/2011.

Filed Date: 09/02/2011.

Accession Number: 20110902-5137.

Comment Date: 5 p.m. Eastern Time on Friday, September 23, 2011.

Docket Numbers: ER11-4438-000.

Applicants: San Diego Gas & Electric Company.

Description: San Diego Gas & Electric Company submits tariff filing per 35.13(a)(2)(iii: SDG&E and Cogentrix Energy E&P Agreement to be effective 9/2/2011.

Filed Date: 09/02/2011.

Accession Number: 20110902-5138.

Comment Date: 5 p.m. Eastern Time on Friday, September 23, 2011.

Docket Numbers: ER11-4441-000.

Applicants: Nevada Power Company.

Description: Nevada Power Company Cancellation of FERC Electric Rate Schedule No. 45—an Agreement with Metropolitan Water District of Southern California.

Filed Date: 09/02/2011.

Accession Number: 20110902-5151.

Comment Date: 5 p.m. Eastern Time on Friday, September 23, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 06, 2011.
Nathaniel J. Davis, Sr.,
Deputy Secretary.

[FR Doc. 2011-23406 Filed 9-13-11; 8:45 am]

BILLING CODE 6717-01-P